ENVIRONMENTAL PROTECTION AGENCY

[ER-FRL-9001-9]

Environmental Impacts Statements; Notice of Availability

Responsible Agency: Office of Federal Activities, General Information, (202) 564-7146 or http://www.epa.gov/compliance/nepa/.

Weekly receipt of Environmental Impact Statements.

Filed 02/27/2012 Through 03/02/2012.

Pursuant to 40 CFR 1506.9.

Notice

Section 309(a) of the Clean Air Act requires that EPA make public its comments on EISs issued by other Federal agencies. EPA's comment letters on EISs are available at: http://www.epa.gov/compliance/nepa/eisdata.html.

EIS No. 20120053, Final EIS, BR, CO, Aspinall Unit Operations—Colorado River Storage Project, Modifying Water Flow Operations, Implementation, Gunnison River, Gunnison, Montrose, Delta, and Mesa Counties, CO, Review Period Ends: 04/09/2012, Contact: Steve McCall, 970-248-0638.

EIS No. 20120054, Final EIS, FHWA, NC, US-1 Transportation Improvements, Updated Information, from Sandhill Road (NC 1971) to just North of Fox Road (NC 1606) to Martson Road (NC 1001), Funding, and COE Section 404 Permit, City of Rockingham, Richmond County, NC, Review Period Ends: 04/09/2012, Contact: John F. Sullivan, III, 919-856-4346.

EIS No. 20120055, Final EIS, USACE, LA, I-12 to Bush, Louisiana Proposed Highway Project, Proposes to Construct a High-Speed, Four-Lane Arterial Highway from the Southern Terminus of LA-21 to I-12, St. Tammany Parish, LA, Review Period Ends: 04/09/2012, Contact: James A. Barlow, 504-862-2250.

EIS No. 20120056, Final EIS, USFS, AK, Ketchikan—Misty Fiords Outfitter and Guide Management Plan, Authorizes Outfitter and Guide Operations through the Issuance of Special Use Permit, Tongass National Forest, Ketchikan-Misty Ranger District, Ketchikan, AK, Review Period Ends: 04/09/2012, Contact: Susan Jennings, 907-723-0477.

EIS No. 20120057, Final EIS, BPA, WA, Mid-Columbia Coho Restoration Program, Proposal to Fund the Construction, Operation, and Maintenance of the Program to help Mitigate for Anadromous Fish, Okanogan County, WA, Review Period Ends: 04/09/2012, Contact: Nancy Weintraub, 503-230-5373.

EIS No. 20120058, Final EIS, NRC, NC, GE-Hitachi Global Laser Enrichment LLC Facility, Issuance of License to Construct, Operate, and Decommission a Laser-Based Uranium Enrichment Facility, Wilmington, NC, Review Period Ends: 04/09/2012, Contact: Jennifer A. Davis, 301-415-3835.

EIS No. 20120059, Final EIS, USFS, SD, Section 30 Limestone Mining Project, Proposal to Implement Mining Actions, Mystic Ranger District, Black Hills National Forest, Rapid City, Pennington County, SD, Review Period Ends: 04/09/2012, Contact: Robert J. Thompson, 605-343-1567.

EIS No. 20120060, Draft EIS, USFWS, 00, Experimental Removal of Barred Owls to Benefit Threatened Northern Spotted Owls, Issuance of Permits, Implementation, OR, WA, and CA, Comment Period Ends: 06/06/2012, Contact: Jesse D'Elia, 503-231-2349.

EIS No. 20120061, Final EIS, BLM, CA, Ocotillo Express Wind Energy Project, Proposing to Develop a 465-Megawatt Wind Energy Facility, Implementation, Imperial County, CA, Review Period Ends: 04/09/2012, Contact: Cedric Perry, 951-697-5388.

Amended Notices

EIS No. 20120006, Draft EIS, USACE, AK, Alaska Stand Alone Gas Pipeline, Construction and Operation of a 737 mile Pipeline to Transport Supply of Natural Gas and Natural Gas Liquids from Alaska's North Slope to Fairbanks, Anchorage and the Cook Inlet Area by 2019, USACE Section 10 and 404 Permits, NPDES Permit, AK, Comment Period Ends: 04/04/2012, Contact: Mary Romero, 907-261-7710.

Dated: March 6, 2012.
Cliff Rader,
Director, NEPA Compliance Division, Office of Federal Activities.

[FR Doc. 2012-5771 Filed 3-8-12; 8:45 am]

BILLING CODE 6560-50-P